GENERAL SERVICES ADMINISTRATION

NATIONAL CAPITAL PLANNING COMMISSION

Record of Decision: Programmatic Development Plan and Phase 1 Implementation for the Suitland Federal Center (SFC) in Suitland, MD

AGENCIES: General Services Administration, National Capital Planning Commission.

ACTION: Notice.

SUMMARY: The General Services Administration (GSA) has published an Environmental Impact Statement (EIS) on the Suitland Federal Center (SFC) Programmatic Development Plan and Phase 1 Implementations. The purpose of this Record of Decision (ROD) is to clearly communicate GSA's consideration of all reasonable alternatives, to communicate GSA's rationale for selecting the chosen alternative, and to identify any mitigation measures to be implemented as a part of the selected alternative.

FOR FURTHER INFORMATION CONTACT: Mr. Jag Bhargava, Project Executive, General Services Administration Portfolio Development Division, WPT, 7th and D Streets, SW., Room 2002, Washington, DC.

SUPPLEMENTARY INFORMATION: The General Services Administration has published an Environmental Impact Statement (EIS) on the following project: Suitland Federal Center (SFC) Programmatic Development Plan and Phase 1 Implementation. GSA announces its decision, in accordance with the National Environmental Policy Act of 1969, as amended (NEPA), the regulations issued by the Council on Environmental Quality (40 CFR parts 1500-1508) (CEQ), and the National Historic Preservation Act of 1966, as amended (NHPA). The purpose of this Record of Decision (ROD) is to clearly communicate GSA's consideration of all reasonable alternatives, to communicate GSA's rationale for selecting the chosen alternative, and to identify any mitigation measures to be implemented as a part of the selected alternative. The selected alternative is Alternative A, the mid-density development plan for the SFC.

Record of Decision for the Programmatic Development Plan and Phase 1 Implementation for the Suitland Federal Center (SFC) Suitland, Maryland

The SFC is a 226-acre federal employment center in Suitland, Maryland. GSA's current tenants are the Bureau of Census, the National Oceanographic and Atmospheric Administration (NOAA), and the National Archives. Independent of GSA, the National Maritime Intelligence Center (NMIC) is also located at the SFC.

GSA has prepared a programmatic development plan for the SFC campus to provide a comprehensive examination of its long-range development potential. The implementation of the programmatic development plan is the subject of an Environmental Impact Statement (EIS). The Draft EIS addressed short-term construction/renovation-related impacts and long-term effects from the proposed implementation of the programmatic development plan alternatives, as well as the cumulative impacts that would result from this and other projects that have been completed recently, are currently under development, or are proposed within the study area. The Final EIS (September 2001) includes the Draft EIS, public and federal, state and local agency comments on the Draft EIS, responses to the Draft EIS comments, modifications to the Proposed Action Alternatives, and mitigation measures to be implemented as part of the selected alternative.

Purpose and Need

The purpose of the SFC programmatic development plan is to assess future development opportunities for the underutilized SFC campus. Of particular importance is better meeting the future needs of two current tenants, NOAA and the Census Bureau. Such an analysis is essential due to current conditions at the campus.

Many existing buildings at the SFC are aged and deteriorated. Problems include leaking roofs, outdated building systems, and dilapidated interior finishes. These conditions have created potential health and safety issues, including exposure to asbestos-containing materials, contamination of the drinking water, problems with indoor air quality, and the presence of lead-based paint. The GSA has taken appropriate measures to control these hazards; however, these measures have resulted in considerable restraints on tenant use of the buildings and thus increased operational costs and inefficiencies. In addition, the campus has existing stormwater drainage problems.

There are currently NOAA and Census Bureau employees that cannot be housed at the SFC campus due to space limitations. They are thus located in leased space around the County. The consolidation of these employees will improve operational efficiency and reduce costs.

In addition, the recent opening (January 2001) of the new Suitland Metro Rail Station at the southwest corner of the campus provides an opportunity to better accommodate the commuting needs of SFC employees. Overall, the development of a comprehensive plan for the long-range development of the SFC will allow GSA to make better use of the facility as a whole, while ensuring that valuable open space and natural and cultural resources on the campus are maintained.

Programmatic Development Plan

The Programmatic Development Plan (Plan) for the SFC was completed in the Spring of 2001. The Plan addressed deficiencies and identified opportunities at the campus over the next ten years. The Plan was developed by GSA in close cooperation with the federal agencies located at SFC, other regional planning agencies, and the surrounding community. The general purpose of the plan is as follows:

• Review, maintain, and improve the condition of existing facilities and functions of each federal agency located within the SFC campus;

• Identify potential future development opportunities for existing parcels within the SFC campus for current and potential federal government uses, or other non-federal uses;

• Maximize the value of the SFC campus for federal and other uses through actions that contribute to the redevelopment of the Suitland community;

• Review potential development opportunities provided by new transit access from the Suitland Metro Rail Station;

• Improve pedestrian and vehicular circulation within the campus and adjoining community;

• Assess campus parking requirements and provide a mixture of surface parking and structured parking facilities;

• Provide environmental and public space amenities that complement the established landscape setting of the SFC campus; and

• Promote the improvement of adjoining neighborhood commercial services that could support the needs of current and future federal agency employees and that could enhance the Suitland community.

The planning process ultimately resulted in the articulation of two viable development options for the campus, a Mid-Density Development option and a High-Density Development option. These two Action Alternatives, together with the No Action Alternative, are the subjects of the Final EIS.

Environmental Review Process

GSA issued a Notice of Intent to prepare an EIS on the Suitland Federal Center Programmatic Development Plan in the Fall of 2000 (Federal Register, October 3, 2000). A public scoping meeting on the project was held on October 25, 2000. Several scoping meetings with regulatory agencies were also held in September and October of 2000. Following the scoping process and subsequent environmental analysis, a Draft EIS on the project was prepared to assess the environmental consequences and identify mitigation measures. The Draft EIS was circulated on July 13, 2001 to applicable review agencies, organizations and interested citizens, and placed in local libraries. Official notice of the availability of the Draft EIS was published in the Federal Register on July 20, 2001, commencing a 45-day review period. A Draft EIS public review meeting was held on August 15, 2001 to receive comments on the document. A transcript of comments received on the Draft EIS during the August 15th public meeting was prepared by a transcriber. Comment letters were also received during the Draft EIS comment period. These oral and written comments, and responses to them, were included in Section C of the Final EIS. GSA adequately addressed all of the substantive comments received on the Draft EIS. The Final EIS was circulated to interested parties on September 21, 2001 and its availability was announced in the Federal Register on September 28, 2001. No comments were received on the Final EIS within the subsequent 30-day No Action period.

The design of the NOAA facility prior to the preparation of the Draft EIS was sufficient so that the Final EIS satisfies the NEPA requirements for the NOAA development at the SFC. The development plans for subsequent phases (the Census Bureau and unspecified future development) were more programmatic, providing total employment figures, square footage, number of parking spaces, and circulation, but not specifically siting the buildings. Instead, building and parking envelopes were defined in a number of areas on the campus. The Census Bureau (Phase 2) development and future (Phase 3) development will each require subsequent environmental review as more detailed plans become available. It is anticipated that each phase will include the preparation of an Environmental Assessment that is tiered from the SFC EIS.

Description of Alternatives

Two alternative programmatic development plans (Action Alternatives), as well as a No Action Alternative, were considered for the long-term development of the SFC. The action alternatives, named Alternatives A and B, represent mid-density and high-density levels of development for the SFC campus.

For each of the Build Alternatives, the EIS analyzes three distinct development phases (the NOAA facility, the Census Bureau facilities, and future development) occurring over the ten-year planning horizon. The first two phases are based on the projected requirements of NOAA and the Census Bureau. The final phase of each alternative is intended to (A) accommodate reasonable future development of approximately 1,272,000 square feet and (B) test the development capacity of the site with approximately 2,272,000 square feet.

Alternative A: Mid-Density Development

Alternative A (Mid-Density): Phase 1 (NOAA)

In Phase 1 of Alternative A, a new 208,000 gsf building would be constructed for NOAA on the site of the current ball fields in the northwest portion of the campus. The building would consist of two primary components, a single level office space element set into the landscape with a sod roof, and an approximately 55-foot tall high-tech tower with satellite operations on the roof.

This phase would result in a net increase of 53 employees and the relocation of 500 parking spaces to the Suitland Federal Center. The majority of parking would be located below the main NOAA building. Access to the new NOAA facility would be provided through the existing roadways and entrances. An antenna farm would be located on the western side of the development parcel.

Alternative A (Mid-Density): Phase 2 (Census Bureau)

Through a combination of new construction, renovation, and demolition, Phase 2 of Alternative A would result in a net increase of approximately 464,000 gsf of space above Phase 1 levels at the Suitland Federal Center campus. It would also add 1,267 employees and 363 parking spaces in structured and at-grade lots. Under Phase 2, the additional space would likely occur through a combination of construction, renovation, and demolition. The Census Bureau would be accommodated in two buildings located in the eastern portion of the SFC campus within the building envelope around FOB-3.

As a result of the construction and renovation, FOB-4 and SFB-2 would be demolished. FOB-3 could either be renovated or demolished. The Suitland House, Mechanical Plant, National Records Center, NMIC, and the new NOAA Building would remain unchanged. Phase 2 would include reorganization of the campus circulation network to align with the existing public street network, provide signalization, and improve peak hour access and egress conditions. The environmentally sensitive forested slopes, drainage channels, and wetlands on the southern areas of the project site would be preserved and remain undeveloped in Phase 2 of Alternative A.

Alternative A (Mid-Density): Phase 3 (Future Development)

Phase 3 of Alternative A would add approximately another 600,000 gsf, 444 parking spaces, and 2,000 employees above Phase 2 levels. This building program would be accommodated in three additional office buildings, each probably three to four stories high. The new buildings and associated parking structures would be constructed to provide a density transition for the area between the Census Bureau building envelope and the new NOAA building. Thus, the building densities would step down as they move west along Suitland Road away from the intersection of Suitland and Silver Hill Roads.

Alternative B: High-Density Development

Alternative B (High Density): Phase 1 (NOAA)

Phase 1 of Alternative B is identical to Phase 1 of Alternative A.

Alternative B (High Density): Phase 2 (Census Bureau)

Phase 2 of Alternative B would result in a net increase of 1,164,000 gsf of space above Phase 1 levels through a combination of new construction, renovation, and demolition. It would also add up to 4,367 employees and 1,053 parking spaces in structured and at-grade lots. Under Phase 2 of Alternative B, a new Census Bureau building (or buildings) would be constructed in the eastern portion of the campus, near existing FOB-3. The capacity of the buildings would consist of 1,500,000 gsf.

It is assumed that FOB-3 would remain in its current condition and could be available for use by a future tenant, either as office space or to serve a storage function. FOB-4 and SFB-2 would be demolished. The existing annex and vault areas would be replaced by approximately 10,000 gsf for new daycare and recreation facilities. The Suitland House, Mechanical Plant, National Records Center, NMIC, and the new NOAA building would remain unchanged. The campus circulation network would be reorganized to align with the existing public street network, provide signalization, and improve peak hour access and egress conditions. The environmentally sensitive forested slopes, drainage channels, and wetlands on the southern areas portion of the site would be preserved.

Alternative B (High Density): Phase 3 (Future Development)

Phase 3 of Alternative B would add approximately 900,000 gsf, 666 parking spaces, and 3,000 employees above Phase 2 levels. It is assumed that, as a result of Phase 3, four new office buildings would be constructed, each probably three to five stories high. These buildings could serve either federal or private sector functions.

Three of the future buildings and associated parking would be constructed in the area between the Census Bureau building envelope and the new NOAA building. Another new three-story office building and a three-story parking structure would be constructed in the area around the Metro Rail station.

No Action Alternative

Under the No Action Alternative, all existing development and tenants would remain; however, there would be no new development at the SFC, nor would there be any reconfiguration of the existing facilities. Thus, the projected relocation of NOAA employees at the SFC, and the growth and consolidation of Census employees at the SFC, would not occur. Any new employees would have to be located in leased space elsewhere in the county.

Environmental Consequences

The following are summaries of the environmental consequences for each of the phases of the two alternatives. Where no impacts are mentioned for a given resource area, there were not significant environmental impacts resulting from the implementation of the phases of each of the alternatives.

Alternative A: Mid-Density Development

Alternative A (Mid-Density): Phase 1 (NOAA)

Construction of the new NOAA facility would help consolidate and enhance existing landscape zones, and add circulation features within the campus while retaining the existing physical character of the SFC as an office and research campus. There would potentially be minor adverse impacts to traffic conditions and air quality; however, these impacts could largely be mitigated by limited road improvements.

Alternative A (Mid-Density): Phase 2 (Census Bureau)

Under Phase 2 of Alternative A, the SFC would continue to retain its character as a lower-density office and research campus with service uses, while also preserving the environmentally sensitive portion of the campus. The increase in Census employees at the SFC could positively affect businesses in the larger Suitland community, increasing retail sales and thus potentially creating new employment opportunities for local residents. It could also contribute to a sense of revitalization in the Suitland area, when considered with other efforts by state and local agencies. The demolition of FOB-4, and potentially FOB-3, would adversely impact historic properties on the campus; however, consultation is currently underway with the Maryland Historical Trust to mitigate these impacts. There would also be adverse impacts to traffic conditions and air quality as a result of Phase 2 of Alternative A; however, these impacts could largely be mitigated by roadway and signal improvements.

Alternative A (Mid-Density): Phase 3 (Future Development)

Under Phase 3 of Alternative A, the amount of development at the SFC would increase to a moderate-density campus of office, retail, and service space with a mixture of structured and at-grade parking. The increase in employees could positively impact businesses in the Suitland area by further increasing retail sales above Phase 2 levels and thus potentially creating new employment opportunities for local residents. It could also contribute to a sense of revitalization in the Suitland area, when considered with other efforts by state and local agencies. There would be adverse impacts to traffic conditions and air quality as a result of Phase 3 of Alternative A; however, these impacts could largely be mitigated by roadway and signal improvements. Peak hour noise levels would slightly exceed the standards established by the Federal Highway Administration and the state of Maryland.

Alternative B: High-Density Development

Alternative B (High Density): Phase 1 (NOAA)

Phase 1 of Alternative B is identical to Phase 1 of Alternative A. Please refer to the discussion of the impacts under Phase 1 of Alternative A above.

Alternative B (High Density): Phase 2 (Census Bureau)

Under Phase 2 of Alternative B, the lower-density suburban character of the SFC would begin to change to a higher-density campus of office, retail, and service space with a mixture of structured and at-grade parking. The environmentally sensitive portions of the campus would remain unchanged. The increase in employees could positively impact businesses in the Suitland area, further increasing retail sales and thus potentially creating new employment opportunities for local residents. It could also contribute to revitalization in the Suitland area, when considered with other efforts by state and local agencies. There would be adverse impacts to traffic conditions and air quality as a result of Phase 2 of Alternative B. These impacts could be mitigated by substantial roadway and signal improvements. Peak hour noise levels would exceed the standards established by the Federal Highway Administration and the state of Maryland.

Alternative B (High Density): Phase 3 (Future Development)

Under Phase 3 of Alternative B, the character of the SFC would further evolve into a higher-density campus of larger buildings containing office, retail, and service space with a mixture of structured and at-grade parking. The increase in employees could have significant positive impacts on businesses in the Suitland area, further increasing retail sales and thus potentially creating new employment opportunities for local residents. It could also contribute to revitalization in the Suitland area, when considered with other efforts by State and local agencies. There would be substantial adverse impacts to traffic conditions and air quality as a result of Phase 3 of Alternative B. These impacts could be mitigated by extensive roadway and signal improvements. Peak hour noise levels would exceed the standards established by the Federal Highway Administration and the state of Maryland.

No Action Alternative

Under the No Action Alternative, there would be no new impacts. The conditions of the buildings on the site would worsen with time. Erosion of the site from stormwater, particularly in the vicinity of FOB-3, would also worsen over time without a reconfiguration of the campus to address drainage issues. Finally, without the influx of new employees and the redevelopment of the site, the SFC would be less likely to contribute to the redevelopment of the larger Suitland area.

Preferred Alternative

Environmentally Preferred Alternative

Regulations of the Council on Environmental Quality (CEQ) implementing NEPA require a federal agency to identify the alternative or alternatives that are considered to be environmentally preferable. In this case, the No Action Alternative appears to involve the fewest impacts to environmental and historical resources. However, this alternative would not satisfy the underlying purpose and need for the proposed action as it would not meet the future needs of NOAA, the Census Bureau, and the federal government. Moreover, it would require the two tenant agencies to continue to occupy aged and deteriorating buildings. The consolidation of NOAA and Census Bureau employees that are currently located off-site would not occur and thus they would not be better able to meet their mission requirements and serve the public. Finally, it would not allow for the long-range redevelopment of the SFC, which is essential for the revitalization of the greater Suitland area. Therefore, implementation of one of the two action alternatives is necessary to satisfy the purpose and need for the proposed action.

Preferred Action Alternative

GSA selected Alternative A (Mid-Density Development) as the preferred action alternative because it more closely meets the needs of GSA and the tenant agencies with less overall environmental impacts. Phase 1 development is identical between the two action alternatives. Thus, the nature and intensity of the environmental impacts are also identical for Phase 1. However, the development program and density for Phases 2 and 3 are greater under Alternative B (High-Density) than under Alternative A (Mid-Density). As a result, the environmental impacts associated with the number of buildings, employees, vehicles, and other programmatic elements that would be generated under Alternative A would be less extensive than the impacts generated under Alternative B. Overall, because the density under Alternative B would exceed the development capacity of certain resources, Alternative A more closely meets the needs of the GSA and the tenant agencies through a mid-density phasing plan.

Decision

Giving consideration to all factors discovered during the NEPA process, and since Alternative A more closely meets the needs of GSA and the tenant agencies, GSA has decided to advance the redevelopment of the SFC campus under Alternative A, the mid-density alternative.

Mitigation Measures

The implementation of each phase of Alternative A would result in a variety of short- and long-term impacts. GSA received a number of comments and mitigation suggestions from members of the public and from local, state, and federal agencies. Potential mitigation measures were identified in the Final EIS to address environmental impacts resulting from the construction or operation of the new facility. All practicable means of avoiding or minimizing environmental harm from the selected alternative were adopted, through the program of mitigation, monitoring and enforcement outlined below.

Impacted areas | Phase | Mitigation measure
Land Use | Phase 1 | • Building design will accommodate employee and public circulation to Metro Rail Station.
| Phase 2 | • Building design will accommodate employee and public circulation to Metro Rail Station.
|  | • GSA will consider public use for southeast corner of the site and high-density use for Metro Rail parcel.
| Phase 3 | • Building design will accommodate employee and public circulation to Metro Rail Station.
Planning Policy | Phase 1 | None.
| Phase 2 | • Comply with Section 106 of the National Historic Preservation Act.
| Phase 3 | None.
Community Facilities | Phase 1 | • Identify alternate local recreational facilities to replace ballfields.
| Phase 2 | None.
| Phase 3 | None.
Public Safety Services | Phase 1 | • NOAA building will be sprinkled.
| Phase 2 | • Increase the number of on-site safety personnel to meet new demands.
|  | • New buildings will be sprinkled.
| Phase 3 | • Increase the number of on-site safety personnel to meet new demands.
|  | • New buildings will be sprinkled.
Demographics | Phase 1 | • Coordinate construction routes and activities with surrounding community.
| Phase 2 | • Coordinate construction routes and activities with surrounding community.
|  | • Integrate and coordinate project with ongoing plans for Suitland/Silver Hill area.
| Phase 3 | • Coordinate construction routes and activities with surrounding community.
|  | • Integrate and coordinate project with ongoing plans for Suitland/Silver Hill area.
Environmental Justice | Phase 1 | • Coordinate construction routes and activities with surrounding community.
| Phase 2 | • Coordinate construction routes and activities with surrounding community.
| Phase 3 | • Coordinate construction routes and activities with surrounding community.
Arch./Historic Resources | Phase 1 | None.
| Phase 2 | • Comply with Section 106 of the National Historic Preservation Act.
| Phase 3 | • Comply with Section 106 of the National Historic Preservation Act.
Transportation Systems | Phase 1 | • Undertake necessary roadway and signal improvements to ensure that intersections surrounding the SFC operate at acceptable Level of Service (LOS).
|  | • Commit to net increase in parking.
| Phase 2 | • Undertake necessary roadway and signal improvements to ensure that intersections surrounding the SFC operate at acceptable LOS.
| Phase 3 | • Undertake necessary roadway and signal improvements to ensure that intersections surrounding the SFC operate at acceptable LOS.
|  | • Prepare a TMP.
Air Quality | Phase 1 | • Conduct detailed analysis of 8-hour CO concentrations at Suitland/Silver Hill Road.
| Phase 2 | • Make necessary roadway improvements to ensure that 8-hour CO concentrations at affected intersections do not exceed established thresholds.
| Phase 3 | • Make necessary roadway improvements to ensure that 8-hour CO concentrations at affected intersections do not exceed established thresholds.
Noise Levels | Phase 1 | • Select truck routes that minimize potential for noise impact during construction.
| Phase 2 | • Select truck routes that minimize potential for noise impact during construction.
|  | • Prepare a TMP.
| Phase 3 | • Select truck routes that minimize potential for noise impact during construction.
|  | • Prepare a TMP.
Water Resources | Phase 1 | • Locate structured parking beneath building.
|  | • Design stormwater facilities to minimize potential contamination of water resources, maintain existing drainage patterns and control erosion and sediment.
| Phase 2 | • Control size of building footprints, roads and surface parking lots.
|  | • Design stormwater facilities to minimize potential contamination of water resources, maintain existing drainage patterns and control erosion and sediment.
| Phase 3 | • Control size of building footprints, roads and surface parking lots.
|  | • Design stormwater facilities to minimize potential contamination of water resources, maintain existing drainage patterns and control erosion and sediment.
Geology/Topography/Soils | Phase 1 | • Complete geotechnical studies prior to construction.
|  | • Minimize erosion and exposed impervious surfaces.
| Phase 2 | • Complete geotechnical studies prior to construction.
|  | • Minimize erosion and exposed impervious surfaces.
| Phase 3 | • Complete geotechnical studies prior to construction.
|  | • Minimize erosion and exposed impervious surfaces.
Vegetation/Wildlife Habitat | Phase 1 | • Design will minimize impervious surface and promote erosion and sediment control.
|  | • Complete geotechnical studies prior to construction.
|  | • Provide afforestation and landscaping in disturbed areas.
|  | • Maintenance or creation of vegetative buffers around wildlife habitat.
| Phase 2 | • Design will minimize impervious surface and promote erosion and sediment control.
|  | • Complete geotechnical studies prior to construction.
|  | • Afforestation and landscaping in disturbed areas.
|  | • Maintenance or creation of vegetative buffers around wildlife habitat.
| Phase 3 | • Design will minimize impervious surface and promote erosion and sediment control.
|  | • Complete geotechnical studies prior to construction.
|  | • Afforestation and landscaping in disturbed areas.
|  | • Maintenance or creation of vegetative buffers around wildlife habitat.
Hazardous Materials | Phase 1 | None.
| Phase 2 | • Properly handle asbestos or lead-bearing waste and UST systems.
|  | • Add secondary containment to chemical storage area and initiate Spill Prevention, Control, and Countermeasures Plan.
| Phase 3 | • Add secondary containment to chemical storage area and initiate Spill Prevention, Control, and Countermeasures (SPCC) Plan.
Stormwater Management Systems | Phase 1 | • Utilize Best Management Practices (BMP).
|  | • Consider bioretention and extended wet ponds.
| Phase 2 | • Utilize BMP.
|  | • Consider bioretention and extended wet ponds.
| Phase 3 | • Utilize BMP.
|  | • Consider bioretention and extended wet ponds.
Water Supply | Phase 1 | • Reduce water consumption to the extent possible.
| Phase 2 | • Reduce water consumption to the extent possible.
|  | • Perform flow test to determine necessity of booster pumps.
| Phase 3 | • Reduce water consumption to the extent possible.
|  | • Perform flow test to determine necessity of booster pumps.
Energy Systems | Phase 1 | • Employ energy savings performance contracts.
|  | • Employ energy-wise management practices.
| Phase 2 | • Employ energy savings performance contracts.
|  | • Employ energy-wise management practices.
| Phase 3 | • Employ energy savings performance contracts.
|  | • Employ energy-wise management practices.
Solid Waste Disposal | Phase 1 | • Promote cost effective waste reduction and recycling activities.
|  | • Additional dumpsters to accommodate construction.
|  | • More frequent waste collection during construction.
| Phase 2 | • Promote cost effective waste reduction and recycling activities.
|  | • Additional dumpsters to accommodate construction.
|  | • More frequent waste collection during construction.
|  | • Properly handle asbestos or lead-bearing waste.
| Phase 3 | • Promote cost effective waste reduction and recycling activities.
|  | • Additional dumpsters to accommodate construction.
|  | • More frequent waste collection during construction.
Radiofrequency Communication | Phase 1 | • Designate restricted access to all areas where field strengths exceed acceptable levels.
|  | • Provide rooftop shielding on NOAA building.
| Phase 2 | • Conduct a detailed radiofrequency study and develop appropriate communications plan.
| Phase 3 | • Conduct a detailed radiofrequency study and develop appropriate communications plan.

Dated: October 31, 2001.
Annie W. Everett,
Acting Regional Administrator, General Services Administration, National Capital Region.

[FR Doc. 01-29128 Filed 11-20-01; 8:45 am]

BILLING CODE 6820-34-P